DEPARTMENT OF COMMERCE

Patent and Trademark Office

Post Registration (Trademark Processing)

ACTION: Proposed collection; comment request.

SUMMARY: The United States Patent and Trademark Office (USPTO), as part of its continuing effort to reduce paperwork and respondent burden, invites the general public and other Federal agencies to comment on the proposed addition to this continuing information collection, as required by the Paperwork Reduction Act of 1995, Public Law 104-13 (44 U.S.C. 3506(c)(2)(A)).

DATES: Written comments must be submitted on or before December 31, 2007.

ADDRESSES: You may submit comments by any of the following methods:

E-mail: Susan.Fawcett@uspto.gov. Include “0651-0055 comment” in the subject line of the message.

Fax: 571-273-0112, marked to the attention of Susan Fawcett.

Mail: Susan K. Fawcett, Records Officer, Office of the Chief Information Officer, Customer Information Services Group, Public Information Services Division, United States Patent and Trademark Office, P.O. Box 1450, Alexandria, VA 22313-1450.

FOR FURTHER INFORMATION CONTACT: Requests for additional information should be directed to Sharon Marsh, Deputy Commissioner for Trademark Examination Policy, Office of the Commissioner for Trademarks, United States Patent and Trademark Office, P.O. Box 1451, Alexandria, VA 22313-1451, by telephone at 571-272-8900, or by e-mail at Sharon.Marsh@uspto.gov.

SUPPLEMENTARY INFORMATION:

I. Abstract

This collection of information is required by the Trademark Act, 15 U.S.C. 1051 et seq., which provides for the Federal registration of trademarks, service marks, collective trademarks and service marks, collective membership marks, and certification marks. Individuals and businesses that use or intend to use such marks in commerce may file an application to register their marks with the United States Patent and Trademark Office (USPTO).

Such individuals and businesses may also submit various communications to the USPTO, including requests to amend their registrations to delete goods or services that are no longer being used by the registrant. Registered marks remain on the register for ten years and can be renewed, but will be canceled unless the owner files with the USPTO a declaration attesting to the continued use (or excusable non-use) of the mark in commerce within specific deadlines. Applicants may also surrender a registration and in limited situations petition the Director to reinstate a registration that has been cancelled.

The forms in this information collection are available in electronic format through the Trademark Electronic Application System (TEAS), which may be accessed on the USPTO Web site. The USPTO is proposing to add one form to this collection for Section 7 Requests (PTO-1597). Customers may use a Section 7 Request to request a correction or amendment to the information appearing on the certificate of registration. Requests for changes that would result in a material alteration of the registration are not permitted under Section 7. Applicants may submit the proposed new form to the USPTO electronically through TEAS or submit the required information for the Section 7 Request to the USPTO on paper. The USPTO does not provide official forms for these paper submissions.

II. Method of Collection

By mail, facsimile, hand delivery, or electronic transmission.

III. Data

OMB Number: 0651-0055.

Form Number(s): PTO-1583, PTO/TM/1583, PTO-1597, PTO-1963, PTO-4.16, PTO/TM/4.16.

Type of Review: Revision of a currently approved collection.

Affected Public: Individuals or households; businesses or other for-profits; and not-for-profit institutions.

Estimated Number of Respondents: 133,587 responses per year, including 3,800 responses per year for Section 7 Requests.

Estimated Time per Response: The USPTO estimates that the public will require approximately 20 to 23 minutes (0.33 to 0.38 hours) to supply the information required for a Section 7 Request, depending upon the amount and type of information requested in a particular case.

Estimated Total Annual Respondent Burden Hours: 21,097 hours, including 1,349 hours for Section 7 Requests.

Estimated Total Annual Respondent Cost Burden: $6,413,488. The USPTO expects that the information in this collection will primarily be prepared by attorneys, though some submissions may be prepared by pro se applicants. Using the professional hourly rate of $304 for associate attorneys in private firms, the USPTO estimates that the respondent cost burden for submitting Section 7 Requests will be $410,096 per year, which would result in a total annual respondent cost burden of $6,413,488 for this collection.

Item | Estimated time for response (minutes) | Estimated annual responses | Estimated annual burden hours
Section 7 Request (TEAS) | 20 | 1,900 | 627
Section 7 Request (paper) | 23 | 1,900 | 722
Totals |  | 3,800 | 1,349

Estimated Total Annual Non-hour Respondent Cost Burden: $38,432,104. There are no capital start-up or maintenance costs associated with this information collection. However, there are additional filing fees and postage costs associated with the Section 7 Requests being added to this collection.

There is a $100 filing fee for Section 7 Requests unless the correction is due to a USPTO error, in which case there is no fee. The USPTO estimates that approximately 2,533 of the 3,800 expected Section 7 Requests would require the fee, for a total of $253,300 in filing fees being added to this collection due to these requests.

Customers may incur postage costs when submitting a Section 7 Request to the USPTO by mail. The USPTO estimates that it may receive up to 1,900 mailed submissions per year with an estimated postage cost of 41 cents per response, for a total of $779 in postage costs being added to this collection due to these requests.

The Section 7 Requests being added to this collection have an annual (non-hour) cost of $254,079 in the form of filing fees and postage costs. When added to the previously approved burden for this collection, the total annual (non-hour) costs for this collection would be $38,432,104.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: October 26, 2007.
Susan K. Fawcett,
Records Officer, USPTO, Office of the Chief Information Officer, Customer Information Services Group, Public Information Services Division.

[FR Doc. E7-21501 Filed 10-31-07; 8:45 am]

BILLING CODE 3510-16-P